DEPARTMENT OF COMMERCE

International Trade Administration

[A-570-851]

Amended Final Results of Antidumping Duty Administrative Review: Certain Preserved Mushrooms from the People's Republic of China

AGENCY: Import Administration, International Trade Administration, Department of Commerce.

EFFECTIVE DATE: August 9, 2002.

FOR FURTHER INFORMATION CONTACT: Sophie Castro or Brian Smith, Import Administration, International Trade Administration, U.S. Department of Commerce, 14th Street and Constitution Avenue, N.W., Washington, D.C. 20230; telephone: (202) 482-0588 or (202) 482-1766, respectively.

SUPPLEMENTARY INFORMATION:

Applicable Statute and Regulations

Unless otherwise indicated, all citations to the Tariff Act of 1930, as amended (the Act) are references to the provisions effective January 1, 1995, the effective date of the amendments made to the Act by the Uruguay Round Agreements Act. In addition, unless otherwise indicated, all citations to the Department's regulations are to 19 CFR part 351 (2001).

Amendment to Final Results

In accordance with section 751(a) of the Act, on July 12, 2002, the Department published the final results of the 2000-2001 administrative review of the antidumping duty order on certain preserved mushrooms from the People's Republic of China (PRC), in which we determined that certain U.S. sales of the subject merchandise were made at less than normal value (67 FR 46173). On July 15, 2002, we received an allegation, timely filed pursuant to 19 CFR 351.224(c)(2), from Gerber Food (Yunnan) Co., Ltd. (Gerber) that the Department made a ministerial error in its final results. The petitioners¹ did not comment on the alleged ministerial error.

¹ The Coalition for Fair Preserved Mushroom Trade includes the American Mushroom Institute and the following domestic companies: L.K. Bowman, Inc., Nottingham, PA; Modern Mushroom Farms, Inc., Toughkenamon, PA; Monterey Mushrooms, Inc., Watsonville, CA; Mount Laurel Canning Corp., Temple, PA; Mushrooms Canning Company, Kennett Square, PA; Southwood Farms, Hockessin, DE; Sunny Dell Foods, Inc., Oxford, PA; United Canning Corp., North Lima, OH.

After analyzing Gerber's submission, we have determined, in accordance with 19 CFR 351.224, that a ministerial error was made in our final margin calculation for Gerber. Specifically, we incorrectly applied the surrogate value for cans and lids in the calculation of Gerber's factors of production-based normal value. For a detailed discussion of the ministerial error, as well as the Department's analysis, see the memorandum to Louis Apple from the Team, dated July 29, 2002.

Therefore, in accordance with 19 CFR 351.224(e), we are amending the final results of the 2000-2001 antidumping duty administrative review of the order on certain preserved mushrooms from the PRC. The revised dumping margins are as follows:

Exporter/Manufacturer | Original Final ­Margin Percentage | Revised Final ­Margin Percentage
Gerber Food (Yunnan) Co., Ltd. | 14.79' | 0.00
Raoping Xingyu Foods, Co., Ltd. | 161.57 | 161.57 (no change)
Shantou Hongda Industrial General Corporation | 0.00 | 0.00 (no change)
Shenxian Dongxing Foods Co., Ltd. | 0.00 | 0.00 (no change)

We will notify the Customs Service of the revised cash deposit rate for Gerber.

Scope of the Order

The products covered by the order are certain preserved mushrooms whether imported whole, sliced, diced, or as stems and pieces. The preserved mushrooms covered under the order are the species Agaricus bisporus and Agaricus bitorquis. “Preserved mushrooms” refer to mushrooms that have been prepared or preserved by cleaning, blanching, and sometimes slicing or cutting. These mushrooms are then packed and heated in containers including but not limited to cans or glass jars in a suitable liquid medium, including but not limited to water, brine, butter or butter sauce. Preserved mushrooms may be imported whole, sliced, diced, or as stems and pieces. Included within the scope of the order are “brined” mushrooms, which are presalted and packed in a heavy salt solution to provisionally preserve them for further processing.

Excluded from the scope of the order are the following: (1) all other species of mushroom, including straw mushrooms; (2) all fresh and chilled mushrooms, including “refrigerated” or “quick blanched mushrooms”; (3) dried mushrooms; (4) frozen mushrooms; and (5) “marinated,” “acidified” or “pickled” mushrooms, which are prepared or preserved by means of vinegar or acetic acid, but may contain oil or other additives.²

² On June 19, 2000, the Department affirmed that “marinated,” “acidified,” or “pickled” mushrooms containing less than 0.5 percent acetic acid are within the scope of the antidumping duty order. See “Recommendation Memorandum--Final Ruling of Request by Tak Fat, et al. for Exclusion of Certain Marinated, Acidified Mushrooms from the Scope of the Antidumping Duty Order on Certain Preserved Mushrooms from the People's Republic of China,” dated June 19, 2000.

The merchandise subject to the order is currently classifiable under subheadings 2003.10.0027, 2003.10.0031, 2003.10.0037, 2003.10.0043, 2003.10.0047, 2003.10.0053, and 0711.90.4000 of the Harmonized Tariff Schedule of the United States (HTSUS). Although the HTSUS subheadings are provided for convenience and customs purposes, the written description of the scope of the order is dispositive.

These amended final results of administrative review and notice are in accordance with section 751(h) of the Act and 19 CFR 351.224(e).

Dated: August 2, 2002.
Faryar Shirzad,
Assistant Secretary for Import Administration

[FR Doc. 02-20233 Filed 8-8-02; 8:45 am]

BILLING CODE 3510-DS-S